DEPARTMENT OF STATE

[Public Notice 6852]

Culturally Significant Objects Imported for Exhibition Determinations: “Mammoths and Mastodons: Titans of the Ice Age”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Mammoths and Mastodons: Titans of the Ice Age,” imported from abroad for temporary exhibition within the United States, are of cultural significance. The objects are imported pursuant to loan agreements with the foreign owners or custodians. I also determine that the exhibition or display of the exhibit objects at the Field Museum, Chicago, IL, from on or about March 5, 2010, until on or about September 6, 2010; at the Liberty Science Center, Jersey City, NJ, from on or about October 16, 2010, until on or about January 9, 2011; at the Houston Museum of Natural Science, Houston, TX, from on or about February 19, 2011, until on or about May 30, 2011; at the Missouri History Museum, St. Louis, MO, from on or about November 25, 2011, until on or about April 15, 2012; at the Anchorage Museum, Anchorage, AK, from on or about May 26, 2012, until on or about September 3, 2012; at the Museum of Science, Boston, MA, from on or about October 13, 2012, until on or about January 13, 2013; at the Denver Museum of Nature & Science, Denver, CO, from on or about February 15, 2013, until on or about May 27, 2013; at the San Diego Natural History Museum, San Diego, CA, from on or about July 4, 2013, until on or about October 6, 2013; and at possible additional exhibitions or venues yet to be determined, is in the national interest. Public Notice of these Determinations is ordered to be published in the Federal Register.

FOR FURTHER INFORMATION CONTACT: For further information, including a list of the exhibit objects, contact Carol B. Epstein, Attorney-Adviser, Office of the Legal Adviser, U.S. Department of State (telephone: 202/632-6473). The address is U.S. Department of State, SA-5, L/PD, Fifth Floor, Washington, DC 20522-0505.

Dated: December 8, 2009.
Maura M. Pally,
Deputy Assistant Secretary for Professional and Cultural Exchanges, Bureau of Educational and Cultural Affairs, Department of State.

[FR Doc. E9-29819 Filed 12-14-09; 8:45 am]

BILLING CODE 4710-05-P